DEPARTMENT OF TRANSPORTATION

Federal Aviation Administration

Advisory Circular 25.783-1A, Fuselage Doors and Hatches

AGENCY: Federal Aviation Administration, DOT.

ACTION: Notice of issuance of advisory circular.

SUMMARY: This notice announces the issuance of Advisory Circular 25.783-1A, “Fuselage Doors and Hatches.” The advisory circular provides guidance for showing compliance with revisions to the design standards for fuselage doors and hatches recently adopted by Amendment 25-114 on May 3, 2004 (69 FR 24496).

DATES: AC 25.783-1A was issued by the FAA Transport Airplane Directorate in Renton, Washington, on April 25, 2005.

How to Obtain Copies: You can download a copy of Advisory Circular 25.783-1A from the Internet at http:/www.airweb.faa.gov/rgl. A paper copy will be available in approximately 6-8 weeks from the U.S. Department of Transportation, Subsequent Distribution Office, M-30, Ardmore East Business Center, 3341 Q 75th Avenue, Landover, MD 20795.

FOR FURTHER INFORMATION CONTACT: Jan Thor, FAA Standardization Branch, ANM-113, Transport Airplane Directorate, 1601 Lind Avenue SW., Renton, Washington 98055-4056; telephone (425) 227-2127; e-mail jan.thor@faa.gov

Issued in Renton, Washington, on April 25, 2005.
Ali Bahrami,
Manager, Transport Airplane Directorate, Aircraft Certification Service.

[FR Doc. 05-11323 Filed 6-7-05; 8:45 am]

BILLING CODE 4910-13-M